NATIONAL CREDIT UNION ADMINISTRATION

Sunshine Act Notice; Matter to be Deleted From the Agenda of a Previously Announced Agency Meeting

FEDERAL REGISTER CITATION OF PREVIOUS ANNOUNCEMENT: May 22, 2017 (82 FR 23317).

TIME AND DATE: 11:45 a.m., Thursday, May 25, 2017.

PLACE: Board Room, 7th Floor, Room 7047, 1775 Duke Street (All visitors must use Diagonal Road Entrance), Alexandria, VA 22314-3428.

STATUS: Closed.

Pursuant to the provisions of the “Government in Sunshine Act” notice is hereby given that the NCUA Board gave notice on May 22, 2017 (82 FR 23317) of the regular meetings of the NCUA Board scheduled for May 25, 2017. Prior to the meeting, on May 24, 2017, the NCUA Board unanimously determined that agency business required the deletion of the fourth item on the closed agenda with less than seven days' notice to the public, and that no earlier notice of the deletion was possible.

MATTER TO BE DELETED:

4. Briefing on Supervisory Matter. Closed pursuant to Exemptions (8), (9)(i)(B), and (9)(ii).

FOR FURTHER INFORMATION CONTACT: Gerard Poliquin, Secretary of the Board, Telephone: 703-518-6564.

Gerard Poliquin,
Secretary of the Board.

[FR Doc. 2017-11190 Filed 5-25-17; 4:15 pm]

BILLING CODE 7535-01-P